GENERAL SERVICES ADMINISTRATION

41 CFR Part 301-11

[FTR Amendment 2015-01; FTR Case 2015-301; Docket No. 2009-0013; Sequence No. 2]

RIN 3090-AJ54

Federal Travel Regulation; Temporary Duty (TDY) Travel Allowances (Taxes); Relocation Allowances (Taxes); Technical Amendment

AGENCY: Office of Government-wide Policy (OGP), General Services Administration (GSA).

ACTION: Final rule; technical amendment.

SUMMARY: General Services Administration published in the Federal Register of August 21, 2014, a document amending the Federal Travel Regulation (FTR) concerning calculation of reimbursement for taxes on relocation and extended temporary duty (TDY) benefits. Inadvertently, sections pertaining to Employee Responsibilities and Agency Responsibilities in subpart F were not removed. This document removes those sections.

DATES:

Effective: This rule is effective on March 20, 2015.

Applicability date: This rule is applicable for employees who relocated beginning January 1, 2015.

FOR FURTHER INFORMATION CONTACT: Mr. Rick Miller, Office of Government-wide Policy (MAE), U.S. General Services Administration, at 202-501-3822 or email at rodney.miller@gsa.gov for clarification of content. For information pertaining to status or publication schedules, contact the Regulatory Secretariat at 202-501-4755. Please cite FTR Amendment 2015-01, FTR case 2015-301.

SUPPLEMENTARY INFORMATION:

Background

GSA published a final rule in the Federal Register at 79 FR 49640, August 21, 2014, to update the Federal Travel Regulation (FTR) for Temporary Duty (TDY) Travel Allowances and Relocation Allowances (Taxes). Inadvertently the amendment did not include the removal of sections §§ 301-11.621 through 301-11.628, and 301-11.631 through 301-11.640 in part 301-11, subpart F. Therefore, GSA is issuing this amendment correction to the final rule to further amend the FTR by removing those sections.

List of Subjects in 41 CFR Part 301-11

Government employees, Income taxes, Travel and transportation.

Dated: March 16, 2015.
Giancarlo Brizzi,
Acting Associate Administrator.

For the reasons set forth in the preamble, under 5 U.S.C. 5701-5739, GSA is amending 41 CFR part 301-11 as set forth below:

PART 301-11—PER DIEM EXPENSES

1. The authority for part 301-11 continues to read as follows:

Authority: 5 U.S.C. 5707.

§§ 301-11.621, 301-11.622, 301-11.623, 301-11.624, 301-11.625, 301-11.626, 301-11.627, and 301-11.628 [Removed]

2. Remove the undesignated center heading “Employee Responsibilities” and §§ 301-11.621 through 301-11.628.

§§ 301-11.631, 301-11.632, 301-11.633, 301-11.634, 301-11.635, 301-11.636, 301-11.637, 301-11.638, 301-11.639, and 301-11.640 [Removed]

3. Remove the undesignated center heading “Agency Responsibilities” and §§ 301-11.631 through 301-11.640.

[FR Doc. 2015-06400 Filed 3-19-15; 8:45 am]

BILLING CODE 6820-14-P